DEPARTMENT OF JUSTICE

Bureau of Prisons

28 CFR Part 302

[BOP-1115-I]

RIN 1120-AB15

Comments on UNICOR Business Operations: Clarification of Addresses

AGENCY: Bureau of Prisons, Justice.

ACTION: Interim final rule.

SUMMARY: In this document, the Bureau of Prisons (Bureau) changes the addresses of the Chief Operating Officer and the Board of Directors of Federal Prison Industries, Inc. (also known as UNICOR), to correct and update them.

DATES: This rule is final January 9, 2004. Please send comments on this rulemaking by March 9, 2004.

ADDRESSES: Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION: In this document, the Bureau changes the addresses of the Chief Operating Officer and the Board of Directors of Federal Prison Industries, Inc. (also known as UNICOR), to correct and update them. The current addresses were published on July 26, 1990 (55 FR 30668) and, in the intervening ten years, both offices have since been relocated within the same buildings. We make this rule change to correct an obsolete room number. We do, however, want to assure the public that any mail sent to the addresses in the current regulation has been and will continue to be routed to the currently correct rooms.

Administrative Procedure Act

The Administrative Procedure Act (5 U.S.C. § 553) allows exceptions to notice-and-comment rulemaking “when the agency for good cause finds * * * that notice and public procedure thereon are impracticable, unnecessary, or contrary to the public interest.”

This rulemaking is exempt from normal notice-and-comment procedures because it merely updates addresses. This rulemaking makes no change to any rights or responsibilities of the agency or any regulated entities. Because this minor change is of a practical nature, normal notice-and-comment rulemaking is unnecessary. The public may, however, comment on this rule change because it is an interim final rule.

Executive Order 12866

This regulation has been drafted and reviewed in accordance with Executive Order 12866, “Regulatory Planning and Review”, section 1(b), Principles of Regulation. The Director, Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Therefore, under Executive Order 13132, we determine that this rule does not have sufficient federalism implications to warrant the preparation of a Federalism Assessment.

Regulatory Flexibility Act

The Director of the Bureau of Prisons reviewed this regulation under the Regulatory Flexibility Act (5 U.S.C. 605(b)) and certifies that it will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 302

Administrative practice and procedure.

Harley G. Lappin,
Director, Bureau of Prisons.

Under the rulemaking authority vested in the Attorney General in 5 U.S.C. 552(a) and delegated to the Director, Bureau of Prisons, we amend 28 CFR part 302 as follows.

PART 302—COMMENTS ON UNICOR BUSINESS OPERATIONS

1. Revise the authority citation for 28 CFR part 302 to read as follows:

Authority: 18 U.S.C. 4126, and by resolution of the Board of Directors of Federal Prison Industries, Inc.

2. Revise § 302.1(b) to read as follows:

§ 302.1 Public and private sector comment procedures.

* * * * *

(b) Address correspondence as follows:

(1) Chief Operating Officer, Federal Prison Industries, Inc., 320 First Street, NW., Washington, DC 20534, Attn: Comment Procedures; or

(2) Board of Directors, Federal Prison Industries, Inc., 320 First Street, NW., Washington, DC 20534, Attn: Comment Procedures.

* * * * *

[FR Doc. 04-472 Filed 1-8-04; 8:45 am]

BILLING CODE 4410-05-P